DEPARTMENT OF COMMERCE

International Trade Administration

A-533-838

Carbazole Violet Pigment 23 from India: Rescission of Administrative Review

AGENCY: Import Administration, International Trade Administration, Department of Commerce.

SUMMARY: On January 29, 2010, in response to a request from an interested party, the Department of Commerce (the Department) published a notice of initiation of the administrative review of the antidumping duty order on carbazole violet pigment 23 (CVP 23) from India for the period of December 1, 2008, through November 30, 2009. Because the party withdrew its request for an administrative review in a timely manner the Department is rescinding this review.

EFFECTIVE DATE: May 7, 2010.

FOR FURTHER INFORMATION CONTACT: Jerrold Freeman or Richard Rimlinger, AD/CVD Operations, Office 5, Import Administration, International Trade Administration, U.S. Department of Commerce, 14th Street and Constitution Avenue, NW, Washington, DC 20230; telephone: (202) 482-0180 and (202) 482-4477, respectively.

SUPPLEMENTARY INFORMATION:

Background

On January 29, 2010, in accordance with section 751(a) of the Tariff Act of 1930, as amended (Act), and 19 CFR 351.221(c)(1)(i), we published a notice of initiation of administrative review of the order. See Initiation of Antidumping and Countervailing Duty Administrative Reviews, Request for Revocation in Part, and Deferral of Initiation of Administrative Review, 75 FR 4770 (January 29, 2010) (Initiation Notice). We initiated the review with respect to Meghmani Pigments (Meghmani) based on its request for a review of its sales during the period December 1, 2008, through November 30, 2009.

On March 9, 2010, in accordance with section 751(b) of the Act and 19 CFR 351.216 and 351.221(c)(3), we published in the Federal Register a notice of initiation of an antidumping duty changed-circumstances review. See Carbazole Violet Pigment 23 from India: Initiation of Antidumping Duty Changed-Circumstances Review, 75 FR 10759 (March 9, 2010). In this notice we indicated that we would be conducting the changed-circumstances review in the context of the administrative review.

On April 5, 2010, Meghmani withdrew its request for review of its sales of merchandise subject to the order for the period December 1, 2008, through November 30, 2009.

Rescission of Review

In accordance with 19 CFR 351.213(d)(1), the Department will rescind an administrative review “if a party that requested the review withdraws the request within 90 days of the date of publication of notice of initiation of the requested review.” We received a letter from Meghmani withdrawing its request for review within the 90-day time limit. We received no other requests for review of this company. In accordance with 19 CFR 351.213(d)(1), we are rescinding the review with respect to CVP 23 from India produced and/or exported by Meghmani.

Continuation of the Changed-Circumstances Review

Although we are rescinding the administrative review, we will continue to conduct the changed-circumstances review. Therefore, in accordance with 19 CFR 351.216(e), we intend to “issue final results of the changed-circumstances review within 270 days after the date on which we initiated the changed-circumstances review.”

Notification to Importer

This notice serves as a final reminder to importers of their responsibility under 19 CFR 351.402(f) to file a certificate regarding the reimbursement of antidumping duties prior to liquidation of the relevant entries during the review period. Failure to comply with this requirement could result in the Department's presumption that reimbursement of antidumping duties occurred and the subsequent assessment of doubled antidumping duties.

Notification to Interested Parties

This notice serves as a reminder to parties subject to the administrative protective order (APO) of their responsibility concerning the disposition of proprietary information disclosed under APO in accordance with 19 CFR 351.305(a)(3). Timely written notification of the destruction of APO materials or conversion to judicial protective order is hereby requested. Failure to comply with the regulations and terms of an APO is a sanctionable violation.

We are issuing and publishing this notice in accordance with section 777(i)(1) of the Act and 19 CFR 351.213(d)(4).

Dated: May 3, 2010.
John M. Andersen,
Acting Deputy Assistant Secretary for Antidumping and Countervailing Duty Operations.

[FR Doc. 2010-10866 Filed 5-6-10; 8:45 am]

BILLING CODE 3510-DS-S